FEDERAL COMMUNICATIONS COMMISSION

[FR ID 270034]

Disability Advisory Committee; Re-Establishment

AGENCY: Federal Communications Commission.

ACTION: Notice of re-establishment of the Disability Advisory Committee.

SUMMARY: The Federal Communications Commission (Commission) hereby announces that the Disability Advisory Committee (hereinafter Committee) will be reestablished for a two-year period pursuant to the Federal Advisory Committee Act (FACA), following consultation with the Committee Management Secretariat, General Services Administration.

ADDRESSES: Federal Communications Commission, 45 L St. NE, Washington, DC 20554.

FOR FURTHER INFORMATION CONTACT: Joshua Mendelsohn, Designated Federal Officer, Federal Communications Commission, Consumer and Governmental Affairs Bureau, (202) 559-7304, or email: dac@fcc.gov.

SUPPLEMENTARY INFORMATION: After consultation with the General Services Administration, the Commission intends to re-establish the charter, providing the Committee with authorization to operate for two years.

The purpose of the Committee is to make recommendations to the Commission on the full range of disability access topics specified by the Commission and to facilitate the participation of consumers with disabilities in proceedings before the Commission. In addition, this Committee is intended to provide an effective means for stakeholders with interests in this area, including consumers with disabilities, to exchange ideas, which will in turn enhance the Commission's ability to effectively address disability access issues.

Advisory Committee

The Committee will be organized under, and will operate in accordance with, the provisions of the FACA (5 U.S.C. ch. 10). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chair of the FCC, unless its charter is renewed prior to the termination date.

During the Committee's next term, it is anticipated that the Committee will meet in Washington, DC, or virtually, at the discretion of the Commission, approximately three (3) times a year. The first meeting date and agenda topics will be described in a Public Notice issued and published in the Federal Register at least fifteen (15) days prior to the first meeting date.

In addition, as needed, subcommittees will be established to facilitate the Committee's work between meetings of the full Committee. All meetings of the Committee, including those of subcommittees, will be fully accessible to individuals with disabilities.

Federal Communications Commission.
Michael Scott,
Deputy Chief, Disability Rights Office, Consumer and Governmental Affairs Bureau.

[FR Doc. 2024-30792 Filed 12-26-24; 8:45 am]

BILLING CODE 6712-01-P